DEPARTMENT OF DEFENSE

Defense Acquisition Regulations System

Conclusion of the Renewal of a Reciprocal Defense Procurement Agreement With the Government of the Italian Republic

AGENCY: Defense Acquisition Regulations System, Department of Defense (DoD).

ACTION: Notice and request for public comments.

SUMMARY: On behalf of the U.S. Government, DoD is contemplating concluding the renewal of a Reciprocal Defense Procurement Agreement with the Government of the Italian Republic. DoD had a similar agreement with Italy, signed on October 20, 2008. DoD is requesting industry feedback regarding its experience in public defense procurements conducted by or on behalf of the Ministry of Defense of the Italian Republic or Armed Forces.

DATES: Comments must be received April 18, 2025.

ADDRESSES: Submit comments by email to jeffrey.c.grover.civ@mail.mil.

FOR FURTHER INFORMATION CONTACT: Mr. Jeff Grover, telephone 703-380-9783.

SUPPLEMENTARY INFORMATION: DoD has concluded Reciprocal Defense Procurement (RDP) Agreements with 28 qualifying countries, as defined in the Defense Federal Acquisition Regulation Supplement (DFARS) 225.003, at the level of the Secretary of Defense and his counterpart. The purpose of an RDP Agreement is to promote rationalization, standardization, interchangeability, and interoperability of conventional defense equipment with allies and other friendly governments. These Agreements provide a framework for ongoing communication regarding market access and procurement matters that enhance effective defense cooperation.

RDP Agreements generally include language by which the Parties agree that their defense procurements will be conducted in accordance with certain implementing procedures. These procedures relate to—

• Publication of notices of proposed purchases;

• The content and availability of solicitations for proposed purchases;

• Notification to each unsuccessful offeror;

• Feedback, upon request, to unsuccessful offerors concerning the reasons they were not allowed to participate in a procurement or were not awarded a contract; and

• Provision for the hearing and review of complaints arising in connection with any phase of the procurement process to ensure that, to the extent possible, complaints are equitably and expeditiously resolved.

Based on the Agreement, each country affords the other country certain benefits on a reciprocal basis consistent with national laws and regulations. The benefits that the United States accords to the products of qualifying countries include—

• Offers of qualifying country end products are evaluated without applying the price differentials otherwise required by the Buy American statute and the Balance of Payments Program;

• The chemical warfare protection clothing restrictions in 10 U.S.C. 4862 and the specialty metals restriction in 10 U.S.C. 4863 do not apply to products manufactured in a qualifying country; and

• Customs, taxes, and duties are waived for qualifying country end products and components of defense procurements.

If DoD (for the U.S. Government) concludes the renewal of an RDP Agreement with the Government of the Italian Republic and DoD executes a blanket public interest determination, as being considered, the Italian Republic will continue to be listed as one of the qualifying countries at DFARS 225.872-1(a).

While DoD has discussed and evaluated with the Government of the Italian Republic its laws and regulations in this area during an extended negotiation period since October 2018, DoD would benefit from U.S. industry's experience in participating in Italian public defense procurements. DoD is, therefore, asking U.S. firms that have participated or attempted to participate in procurements by or on behalf of the Italian Republic Ministry of Defense and Armed Forces to let DoD know if the procurements were conducted with transparency, integrity, fairness, and due process in accordance with published procedures, and if not, the nature of the problems encountered.

DoD is also interested in comments relating to the degree of reciprocity that exists between the United States and the Italian Republic when it comes to the openness of defense procurements to offers of products from the other country. Further, DoD would like to understand the degree to which U.S. industry feels that it would have equal and proportional access to the Italian Republic defense markets as Italian Republic industry would have in the United States under an RDP Agreement.

In addition, DoD will benefit from information provided by the public on anticipated impacts to defense programs and its supply chain if Italy no longer qualifies for a waiver to the Buy American statute and Balance of Payments Program. Not concluding this agreement would necessitate the removal of Italy from the list of qualifying countries in the DFARS.

Jennifer D. Johnson,
Editor/Publisher, Defense Acquisition Regulations System.

[FR Doc. 2025-04494 Filed 3-18-25; 8:45 am]

BILLING CODE 6001-FR-P